DEPARTMENT OF ENERGY

Federal Energy Regulatory Commission

Combined Notice of Filings

Take notice that the Commission has received the following Natural Gas Pipeline Rate and Refund Report filings:

Filings Instituting Proceedings

Docket Numbers: RP23-391-000.

Applicants: Maritimes & Northeast Pipeline, L.L.C.

Description: § 4(d) Rate Filing: Negotiated Rates—Northern to Direct Energy 2804 eff 2-1-23 to be effective 2/1/2023.

Filed Date: 1/31/23.

Accession Number: 20230131-5160.

Comment Date: 5 p.m. ET 2/13/23.

Docket Numbers: RP23-392-000.

Applicants: Egan Hub Storage, LLC.

Description: § 4(d) Rate Filing: Egan Hub Address Change Filing to be effective 8/1/2023.

Filed Date: 1/31/23.

Accession Number: 20230131-5189.

Comment Date: 5 p.m. ET 2/13/23.

Docket Numbers: RP23-393-000.

Applicants: Algonquin Gas Transmission, LLC.

Description: § 4(d) Rate Filing: AGT Address Change Filing to be effective 8/1/2023.

Filed Date: 1/31/23.

Accession Number: 20230131-5190.

Comment Date: 5 p.m. ET 2/13/23.

Docket Numbers: RP23-394-000.

Applicants: NEXUS Gas Transmission, LLC.

Description: § 4(d) Rate Filing: NEXUS Address Change Filing to be effective 8/1/2023.

Filed Date: 1/31/23.

Accession Number: 20230131-5192.

Comment Date: 5 p.m. ET 2/13/23.

Docket Numbers: RP23-395-000.

Applicants: Texas Eastern Transmission, LP.

Description: § 4(d) Rate Filing: TETLP Address Change Filing to be effective 8/1/2023.

Filed Date: 1/31/23.

Accession Number: 20230131-5195.

Comment Date: 5 p.m. ET 2/13/23.

Docket Numbers: RP23-396-000.

Applicants: Bobcat Gas Storage.

Description: § 4(d) Rate Filing: BGS Address Change Filing to be effective 8/1/2023.

Filed Date: 1/31/23.

Accession Number: 20230131-5196.

Comment Date: 5 p.m. ET 2/13/23.

Docket Numbers: RP23-397-000.

Applicants: Maritimes & Northeast Pipeline, L.L.C.

Description: § 4(d) Rate Filing: MNUS Address Change Filing to be effective 8/1/2023.

Filed Date: 1/31/23.

Accession Number: 20230131-5198.

Comment Date: 5 p.m. ET 2/13/23.

Docket Numbers: RP23-398-000.

Applicants: Southern Star Central Gas Pipeline, Inc.

Description: § 4(d) Rate Filing: Annual Modernization Capital Cost Recovery Mechanism—Eff. March 1, 2023 to be effective 3/1/2023.

Filed Date: 1/31/23.

Accession Number: 20230131-5200.

Comment Date: 5 p.m. ET 2/13/23.

Docket Numbers: RP23-399-000.

Applicants: Big Sandy Pipeline, LLC.

Description: § 4(d) Rate Filing: Big Sandy Address Change Filing to be effective 8/1/2023.

Filed Date: 1/31/23.

Accession Number: 20230131-5201.

Comment Date: 5 p.m. ET 2/13/23.

Docket Numbers: RP23-400-000.

Applicants: Garden Banks Gas Pipeline, LLC.

Description: § 4(d) Rate Filing: Garden Banks Address Change Filing to be effective 8/1/2023.

Filed Date: 1/31/23.

Accession Number: 20230131-5209.

Comment Date: 5 p.m. ET 2/13/23.

Docket Numbers: RP23-401-000.

Applicants: Mississippi Canyon Gas Pipeline, L.L.C.

Description: § 4(d) Rate Filing: Mississippi Canyon Address Change Filing to be effective 8/1/2023.

Filed Date: 1/31/23.

Accession Number: 20230131-5213.

Comment Date: 5 p.m. ET 2/13/23.

Docket Numbers: RP23-402-000.

Applicants: Nautilus Pipeline Company, L.L.C.

Description: § 4(d) Rate Filing: Nautilus Address Change Filing to be effective 8/1/2023.

Filed Date: 1/31/23.

Accession Number: 20230131-5216.

Comment Date: 5 p.m. ET 2/13/23.

Docket Numbers: RP23-403-000.

Applicants: Texas Eastern Transmission, LP.

Description: § 4(d) Rate Filing: Negotiated Rates—Nextera NRAs eff 02-01-23 to be effective 2/1/2023.

Filed Date: 1/31/23.

Accession Number: 20230131-5239.

Comment Date: 5 p.m. ET 2/13/23.

Docket Numbers: RP23-404-000.

Applicants: NEXUS Gas Transmission, LLC.

Description: § 4(d) Rate Filing: Negotiated Rates—EAP Ohio to Citadel 962957 eff 1-27-23 to be effective 1/27/2023.

Filed Date: 1/31/23.

Accession Number: 20230131-5265.

Comment Date: 5 p.m. ET 2/13/23.

Docket Numbers: RP23-405-000.

Applicants: Columbia Gas Transmission, LLC.

Description: § 4(d) Rate Filing: Antero Release to MU Mktg_176700 to be effective 2/1/2023.

Filed Date: 1/31/23.

Accession Number: 20230131-5267.

Comment Date: 5 p.m. ET 2/13/23.

Docket Numbers: RP23-406-000.

Applicants: Gulf South Pipeline Company, LLC.

Description: § 4(d) Rate Filing: Amendment to Neg Rate Agmt (Aethon 52454) to be effective 2/1/2023.

Filed Date: 2/1/23.

Accession Number: 20230201-5051.

Comment Date: 5 p.m. ET 2/13/23.

Docket Numbers: RP23-407-000.

Applicants: Gulf South Pipeline Company, LLC.

Description: § 4(d) Rate Filing: Cap Rel Neg Rate Agmts (Osaka 46429 to Texla 55927 and Spotlight 55928) to be effective 2/1/2023.

Filed Date: 2/1/23.

Accession Number: 20230201-5052.

Comment Date: 5 p.m. ET 2/13/23.

Docket Numbers: RP23-408-000.

Applicants: Gulf South Pipeline Company, LLC.

Description: § 4(d) Rate Filing: Cap Rel Neg Rate Agmt (Aethon 52454 to Scona 55933) to be effective 2/1/2023.

Filed Date: 2/1/23.

Accession Number: 20230201-5053.

Comment Date: 5 p.m. ET 2/13/23.

Docket Numbers: RP23-409-000.

Applicants: Texas Gas Transmission, LLC.

Description: § 4(d) Rate Filing: Cap Rel Neg Rate Agmt (Jay-Bee 34446 to Spotlight 54122) to be effective 2/1/2023.

Filed Date: 2/1/23.

Accession Number: 20230201-5054.

Comment Date: 5 p.m. ET 2/13/23.

Docket Numbers: RP23-410-000.

Applicants: Florida Gas Transmission Company, LLC.

Description: § 4(d) Rate Filing: Amended NRA & Exhibit B Update (FPL Ft. Myers)) to be effective 2/1/2023.

Filed Date: 2/1/23.

Accession Number: 20230201-5075.

Comment Date: 5 p.m. ET 2/13/23.

Docket Numbers: RP23-411-000.

Applicants: Enable Gas Transmission, LLC.

Description: § 4(d) Rate Filing: Update GT&C Section 12 to be effective 3/1/2023.

Filed Date: 2/1/23.

Accession Number: 20230201-5123.

Comment Date: 5 p.m. ET 2/13/23.

Docket Numbers: RP23-412-000.

Applicants: Alliance Pipeline L.P.

Description: § 4(d) Rate Filing: Negotiated Rates—Various Feb 1 2023 Releases to be effective 2/1/2023.

Filed Date: 2/1/23.

Accession Number: 20230201-5125.

Comment Date: 5 p.m. ET 2/13/23.

Docket Numbers: RP23-413-000.

Applicants: Algonquin Gas Transmission, LLC.

Description: § 4(d) Rate Filing: Negotiated Rates—Various Releases eff 2-1-23 to be effective 2/1/2023.

Filed Date: 2/1/23.

Accession Number: 20230201-5149.

Comment Date: 5 p.m. ET 2/13/23.

Docket Numbers: RP23-414-000.

Applicants: Equitrans, L.P.

Description: § 4(d) Rate Filing: Negotiated Rate Capacity Release Agreements—2/1/2023 to be effective 2/1/2023.

Filed Date: 2/1/23.

Accession Number: 20230201-5153.

Comment Date: 5 p.m. ET 2/13/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR23-27-001.

Applicants: Public Service Company of Colorado.

Description: Amendment Filing: Compliance Filing to Cancel eTariff Record to be effective 1/31/2023.

Filed Date: 1/31/23.

Accession Number: 20230131-5212.

Comment Date: 5 p.m. ET 2/21/23.

284.123(g) Protest: 5 p.m. ET 3/27/23.

Docket Numbers: RP22-1222-003.

Applicants: Natural Gas Pipeline Company of America LLC.

Description: Compliance filing: Correction to Settlement Compliance Filing to be effective 4/1/2023.

Filed Date: 2/1/23.

Accession Number: 20230201-5094.

Comment Date: 5 p.m. ET 2/13/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2023.
Debbie-Anne A. Reese,
Deputy Secretary.

[FR Doc. 2023-02608 Filed 2-7-23; 8:45 am]

BILLING CODE 6717-01-P